DEPARTMENT OF TRANSPORTATION

Federal Aviation Administration

[Summary Notice No. PE-2000-40]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 21, 2000.

ADDRESSES: Send comments on any petition in triplicate to: Federal Aviation Administration, Office of the Chief Counsel, Attn: Rule docket (AGC-200), Petition No. _____, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on August 28, 2000.
Joseph A. Conte,
Acting Assistant Chief Counsel for Regulations.

Dispositions of Petitions

Docket No. 30056.

Petitioner: Galaxy Aerospace Company and NORDAM Group.

Section of the FAR Affected: 14 CFR 25.785(b).

Description of Relief Sought/Disposition: To permit relief for the general occupant protection requirements for occupants of multiple place side-facing seats that are occupied during takeoff and landing manufactured by ERDA, Inc. in any Israel Aircraft Industries Galaxy (A53NM) model aircraft manufactured prior to January 1, 2004.

Grant, 08/02/00, Exemption No. 7296

Docket No. 25588.

Petitioner: The Soaring Society of America, Inc.

Section of the FAR Affected: 14 CFR 45.11 (a) and (d).

Description of Relief Sought/Disposition: To permit all owners, operators, and manufacturers of gliders to continue to forgo the requirement to secure an identification plate or display the model and serial number on the exterior of the aircraft at specified locations.

Grant, 08/01/00, Exemption No. 4988E

Docket No. 29909.

Petitioner: KaiserAir, Inc.

Section of the FAR Affected: 14 CFR 135.153(a).

Description of Relief Sought/Disposition: To permit KaiserAir to operate one Gulfstream American G-1159A airplane (Registration No. N740SS, Serial No. 369) equipped with a Sperry (Honeywell) VA-100 Voice Advisory/Ground Proximity System rather than an approved ground proximity warning system until the third quarter of 2000.

Denial, 08/02/00, Exemption No. 7308

Docket No. 29746.

Petitioner: American Airlines, Inc.

Section of the FAR Affected: 14 CFR 121.344 (a)(21) and (b)(3).

Description of Relief Sought/Disposition: To permit American to (1) operate its Fokker 100 (F-100) airplanes without recording the leading edge slats/flaps position; (2) complete the required digital flight data recorder (DFDR) installations on its fleet of Boeing 727-200 (B-727-200), F-100, and McDonnell Douglas MD-80 (MD-80) airplanes using an alternative compliance schedule rather than at the next heavy maintenance check after August 18, 1999; and (3) extend by 14 months the August 20, 2001, final compliance deadline for the installation of the required DFDRs on 2 Airbus 300-600 (A300-600) and 23 Boeing 757-200 (B-757-200) airplanes.

Denial, 08/02/00, Exemption No. 7309

Docket No. 30080.

Petitioner: Mid-Atlantic Freight, Inc.

Section of the FAR Affected: 14 CFR 135.143(c)(2).

Description of Relief Sought/Disposition: To permit MAFI to operate certain aircraft under part 135 without a TSO-C112 (Mode S) transponder installed in the aircraft.

Grant, 07/31/00, Exemption No. 7291

Docket No.: 28158.

Petitioner: Twin Otter International, Ltd.

Section of the FAR Affected: 14 CFR 121.345(c)(2) and 135.143(c)(2).

Description of Relief Sought/Disposition: To permit TOIL to operate those airplanes under part 121 and part 135 without a TSO-C112 (Mode S) transponder installed on each airplane.

Grant, 07/31/00, Exemption No. 6111C

Docket No.: 30112.

Petitioner: Elk Flyers, Inc.

Section of the FAR Affected: 14 CFR 135.251, 135.255, 135.353, and appendixes I and J to part 121.

Description of Relief Sought/Disposition: To permit Elk Flyers to conduct local sightseeing flights at St. Marys Municipal Airport for a one-day charity airlift in August 2000, for compensation or hire, without complying with certain anti-drug and alcohol misuse prevention requirements of part 135.

Grant, 08/01/00, Exemption No. 7295

Docket No.: 30076.

Petitioner: TACA International Airlines.

Section of the FAR Affected: 14 CFR 121.344(b).

Description of Relief Sought/Disposition: To permit TAI to operate five Airbus A300 (A300) airplanes (Registration Nos. N59106, N59107, N59139, N59140, and N68142) without installing the required DFDB on each airplane until August 20, 2001.

Grant, 08/08/00, Exemption No. 7305

Docket No.: 29284.

Petitioner: Falcon Aviation Consultants, Inc.

Section of the FAR Affected: 14 CFR 91.109(a).

Description of Relief Sought/Disposition: To permit FACI flight instructors to conduct certain flight instruction to meet recent experience requirements in a Beechcraft Bonanza airplane equipped with a functioning throwover control wheel in place of functioning dual controls.

Grant, 08/02/00, Exemption No. 6803A

Docket No.: 27712.

Petitioner: American Airlines.

Section of the FAR Affected: 14 CFR 121.401(c), 121.433(c)(1)(iii), 121.440(a), and 121.441(a)(1) and (b)(1); appendix F to part 121; and Special Federal Aviation Regulation (SFAR) No. 58, paragraph 6(b)(3)(ii)(A).

Description of Relief Sought/Disposition: To permit American to (1) combine recurrent flight and ground training and proficiency checks for American's pilots in command, seconds in command, and flight engineers in a single annual training and proficiency evaluation program (i.e., a single-visit training program), and (2) meet the line-check requirements of § 121.440(a) and SFAR No. 58 through an alternative line-check program.

Grant, 08/02/00, Exemption No. 5950C

[FR Doc. 00-22368 Filed 8-30-00; 8:45 am]

BILLING CODE 4910-13-M